DEPARTMENT OF TRANSPORTATION

National Highway Traffic Safety Administration

[Docket No. NHTSA 2006-25903; Notice 2]

BMW of North America, LLC, Grant of Petition for Decision of Inconsequential Noncompliance

BMW of North America, LLC (BMW) has determined that certain vehicles that it produced in 2005 and 2006 do not comply with S4.5.1(b)(3) and S4.5.1(e)(3) of 49 CFR 571.208, Federal Motor Vehicle Safety Standard (FMVSS) No. 208, “Occupant crash protection.” Pursuant to 49 U.S.C. 30118(d) and 30120(h), BMW has petitioned for a determination that this noncompliance is inconsequential to motor vehicle safety and has filed an appropriate report pursuant to 49 CFR Part 573, “Defect and Noncompliance Reports.” Notice of receipt of a petition was published, with a 30-day comment period, on October 2, 2006, in the Federal Register (71 FR 58048). NHTSA received no comments.

Affected are a total of approximately 27,975 model year 2006 BMW X5 vehicles produced between September 1, 2005 and June 28, 2006. The affected vehicles were produced according to FMVSS No. 208 S14, the advanced air bag requirements including air bag suppression and telltale. However, the affected vehicles were not equipped with the corresponding warning labels, specifically the FMVSS No. 208 S4.5.1(b)(3) sun visor label identified in Figure 11, and the S4.5.1(e)(3) removable label on dash identified in Figure 12. Instead, the affected vehicles were equipped with the “pre-advanced” air bag warning labels, specifically the FMVSS No. 208 S4.5.1(b)(1) sun visor label identified in Figure 6a, and the S4.5.1(e)(1) removable label on dash identified in Figure 7. This is shown as follows:

SUN VISOR LABEL
Required Label: S4.5.1(b)(3) Figure 11 | Noncompliant Label: S4.5.1(b)(1) Fig. 6a.
WARNING—EVEN WITH ADVANCED AIR BAGS | WARNING—DEATH or SERIOUS INJURY can occur.
Children can be killed or seriously injured by the air bag | Children 12 and under can be killed by the air bag.
The back seat is the safest place for children | The BACK SEAT is the SAFEST place for children.
Never put a rear-facing child seat in front | NEVER put a rear-facing child seat in front.
Always use seat belts and child restraints | ALWAYS use SEAT BELTS and CHILD RESTRAINTS.
See owner's manual for more information about air bags | Sit as far back as possible from the air bag.
REMOVABLE LABEL ON DASH
Required Label: S4.5.1(e)(3) Figure 12 | Noncompliant Label: S4.5.1(e)(2) Figure 7.
This Vehicle is Equipped with Advanced Air Bags | WARNING.
Even with Advanced Air Bags
Children can be killed or seriously injured by the air bag | Children Can be KILLED or INJURED by Passenger Air Bag
The back seat is the safest place for children | The back seat is the safest place for children 12 and under.
Never put a rear-facing child seat in the front
Always use seat belts and child restraints | Make sure all children use seat belts or child seats.
See owner's manual for more information about air bags.

BMW has corrected the problem that caused these errors so that they will not be repeated in future production.

BMW believes that the noncompliance is inconsequential to motor vehicle safety and that no corrective action is warranted. BMW states that the labels it actually used are “more stringent” and “more emphatic, which would lead a consumer to act in a more cautious manner, and not in a less safe manner.” BMW says,

The difference in the warning message texts between the labels clearly indicates that the warning message on the affected vehicles' labels is stricter when compared to the advanced air bag labels. Therefore, even though the labels are incorrect, they would not result in a decrease in the safety message. Rather, they provide an increased emphasis.

BMW further states that the vehicles are equipped with passenger air bag telltale lamps, and therefore the owners will know from these lamps that the vehicles are equipped with an advanced air bag system.

BMW also says,

* * * [T]he Owners Manual of the affected vehicles contains a description of the advanced air bag system including a description of the passenger air bag system telltale lamp. Owners who consult the Owners Manual will be able to read a description of the advanced air bag system along with a description of the passenger air bag system telltale lamp. Therefore, owners will know from their Owners Manual that their vehicle is equipped with a FMVSS 208 advanced air bag system.

BMW states that it has no record that customers contacted the company with inquiries, complaints, or comments on the air bag warning labels.

NHTSA agrees with BMW that the noncompliance is inconsequential to motor vehicle safety. The noncompliant labels lack a statement that the vehicle is equipped with advanced airbags. However, as BMW points out in its petition, both the passenger air bag telltale lamp and the owner's manual indicate the presence of advanced airbags.

Except for indicating that the vehicle is equipped with advanced airbags, the noncompliant permanent sun visor label contains virtually the same information as required by S4.5.1(b)(3). Therefore, there is no degradation of safety resulting from the sun visor label.

The noncompliant removable dash label contains similar information to that required by S4.5.1(e)(3) other than the statement, “Never put a rear-facing child seat in the front.” However, this label does state that “The back seat is the safest place for children 12 and under,” and this label is a removable label which most likely will not stay on the vehicle once it is purchased. The statement, “Never put a rear-facing child seat in the front” is present on the permanent sun visor label, and thus is permanently visible to the vehicle user. Therefore, NHTSA agrees with BMW that this noncompliance will not result in decreased safety.

In consideration of the foregoing, NHTSA has decided that the petitioner has met its burden of persuasion that the noncompliance described is inconsequential to motor vehicle safety. Accordingly, BMW's petition is granted and the petitioner is exempted from the obligation of providing notification of, and a remedy for, the noncompliance.

(Authority: 49 U.S.C. 30118, 30120; delegations of authority at CFR 1.50 and 501.8)

Issued on: December 26, 2006.
Daniel C. Smith,
Associate Administrator for Enforcement.

[FR Doc. E6-22429 Filed 12-28-06; 8:45 am]

BILLING CODE 4910-59-P